DEPARTMENT OF TRANSPORTATION

Pipeline and Hazardous Materials Safety Administration

49 CFR Part 195

[Docket No. PHMSA-2025-0121]

RIN 2137-AF89

Pipeline Safety: Standards Update—API STD 620

AGENCY: Pipeline and Hazardous Materials Safety Administration (PHMSA), Department of Transportation (DOT).

ACTION: Direct final rule (DFR); confirmation of effective date.

SUMMARY: PHMSA is confirming the effective date for the DFR that appeared in the Federal Register on July 1, 2025. The DFR amended PHMSA's regulations to incorporate by reference the updated industry standard American Petroleum Institute (API) Standard (STD) 620, “Design and Construction of Large, Welded, Low-Pressure Storage Tanks.”

DATES: PHMSA confirms the effective date of January 1, 2026, for the DFR that appeared in the Federal Register on July 1, 2025 (90 FR 28119).

FOR FURTHER INFORMATION CONTACT: Brianna Wilson, Transportation Specialist, by phone at 771-215-0969 or email at brianna.wilson@dot.gov.

SUPPLEMENTARY INFORMATION: On July 1, 2025 (90 FR 28119), PHMSA published a DFR amending its regulations at 49 CFR part 195 to incorporate by reference the 12th edition of API STD 620, “Design and Construction of Large, Welded, Low-Pressure Storage Tanks,” including Addendum 1 through 4 (November 2014 through February 2025) and Errata 1 (March 2025).

References to the 12th edition of API STD 620 will replace existing references within sections 195.3; 195.132(b); 195.205(b); 195.264(b), and (e); 195.307(b); 195.565; and 195.579(d) to API Standard 620, “Design and Construction of Large, Welded, Low-Pressure Storage Tanks,” 11th edition, effective February 2008.

PHMSA issued the DFR under the procedures set forth at 49 CFR 190.339. In accordance with those provisions, PHMSA stated in the DFR that if no adverse comments were received, the DFR would become final and effective on January 1, 2026. PHMSA did not receive any comments that warranted withdrawal of the DFR; therefore, this rule will become effective as scheduled.

Issued in Washington, DC, on September 30, 2025, under the authority designated in 49 CFR 1.97.
Benjamin D. Kochman,
Deputy Administrator.

[FR Doc. 2025-19342 Filed 10-1-25; 8:45 am]

BILLING CODE 4910-60-P